CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed request for information and participation from AmeriCorps VISTA alumni. The outreach plan to obtain the contact information for VISTA alumni includes the mailing of two postcards to 177,000 alumni. The postcard directs alumni to take several actions: create an online account on the VISTACampus.org, register on My.AmeriCorps.gov, and complete a questionnaire if interested in participating in recruitment and outreach. By reaching out to alumni and requesting that they sign-up through these two Corporation Web sites, we can obtain their contact information and send them notifications about various alumni activities. This is especially important as VISTA is celebrating its 45th anniversary in 2010 and there will be numerous activities for alumni to participate in across the country. Copies of the information collection requests can be obtained by contacting the office listed in the addresses section of this notice.

DATES: Written comments must be submitted to the individual and office listed in the ADDRESSES section by January 4, 2010.

ADDRESSES: You may submit comments, identified by the title of the information collection activity, by any of the following methods:

(1) By mail sent to: Corporation for National and Community Service, VISTA; Attention Elizabeth Matthews, VISTA Alumni and Outreach Specialist, Room 9110B; 1201 New York Avenue, NW., Washington, DC, 20525.

(2) By hand delivery or by courier to: The Corporation's mailroom at Room 8100 at the mail address given in paragraph (1) above, between 9 a.m. and 4 p.m. Monday through Friday, except Federal holidays.

(3) By fax to: (202) 606-3475, Attention Elizabeth Matthews, VISTA Alumni and Outreach Specialist.

(4) Electronically through the Corporation's e-mail address system: ematthews@cns.gov.

FOR FURTHER INFORMATION CONTACT: Elizabeth Matthews, (202) 606-6774, or by e-mail at ematthews@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The goal of this project is to contact the 177,000 VISTA Alumni and ask them to take three actions; (1) Go online to VISTACampus.org and create an account; (2) Go online to My.AmeriCorps.gov and register; (3) Fill out a questionnaire IF they are interested in promoting and recruiting for VISTA. By creating an account through the VISTACampus.org and registering through MyAmeriCorps.gov, we can obtain their email addresses and keep them informed about future alumni related activities. This is especially important as VISTA is celebrating its 45th anniversary in 2010 and there will be numerous activities for alumni to participate in across the country.

Current Action

The Corporation has obtained the mailing addresses for all 177,000 alumni. There have been two postcards designed to mail to the alumni. The postcard text directs alumni to the VISTACampus.org and MyAmeriCorps.gov to update their contact information. When approved, the postcards will be mailed and there will be information posted on the VISTA Campus explaining how to register on MyAmeriCorps.gov. The questionnaire can be posted and alumni can help with recruitment.

Type of Review: New.

Agency: Corporation for National and Community Service.

Title: VISTA Alumni Outreach.

OMB Number:

Agency Number: None.

Affected Public: AmeriCorps VISTA Alumni.

Total Respondents: 177,000.

Frequency: Ongoing.

Average Time Per Response: Estimated at 30 minutes for first time respondents and 15 minutes for previously registered alumni updating information. Estimated 30 minutes for VISTA alumni outreach questionnaire (estimated 500 people).

Estimated Total Burden Hours: 88,500/250.

Total Burden Cost (capital/startup): None.

Total Burden Cost (operating/maintenance): None.

Comments submitted in response to this notice will be summarized and/or included in the request for Office of Management and Budget approval of the information collection request; they will also become a matter of public record.

Dated: October 30, 2009.
Paul Davis,
Acting Director, VISTA.

[FR Doc. E9-26728 Filed 11-4-09; 8:45 am]

BILLING CODE 6050-$$-P